EQUAL EMPLOYMENT OPPORTUNITY COMMISSION

29 CFR Part 1602

[3046-0007]

EEO-1 Pay Data Collection for 2017

AGENCY: Equal Employment Opportunity Commission.

ACTION: Announcement of collection of EEO-1 Component 2 data for calendar year 2017.

SUMMARY: The U.S. Equal Employment Opportunity Commission (EEOC) announces the collection of 2017 pay data (EEO-1 Component 2) from EEO-1 filers by September 30, 2019.

DATES: May 3, 2019. The EEOC expects to begin collecting EEO-1 Component 2 data for calendar years 2017 and 2018 in mid-July 2019.

FOR FURTHER INFORMATION CONTACT: Rashida Dorsey, Ph.D., MPH, Director, Data Development and Information Products Division and Senior Advisor on Data Strategy, Office of Enterprise Data and Analytics, Equal Employment Opportunity Commission, 131 M Street NE, Room 4SW32L, Washington, DC 20507; (202) 663-4355 (voice) or (202) 663-7063 (TTY). Requests for this notice in an alternative format should be made to the Office of Communications and Legislative Affairs at (202) 663-4191 (voice) or (202) 663-4494 (TTY).

SUPPLEMENTARY INFORMATION: EEO-1 filers should begin preparing to submit Component 2 data for calendar year 2017, in addition to data for calendar year 2018, by September 30, 2019, in light of the court's recent decision in National Women's Law Center, et al., v. Office of Management and Budget, et al., Civil Action No. 17-cv-2458 (D.D.C.). The EEOC expects to begin collecting EEO-1 Component 2 data for calendar years 2017 and 2018 in mid-July, 2019, and will notify filers of the precise date the survey will open as soon as it is available.

Dated: May 1, 2019.
For the Commission.
Victoria A. Lipnic,
Acting Chair.

[FR Doc. 2019-09225 Filed 5-2-19; 8:45 am]

BILLING CODE 6570-01-P